DEPARTMENT OF HEALTH AND HUMAN SERVICES

Centers for Disease Control and Prevention

[60Day-16-16TZ; Docket No. CDC-2016-0028]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on a proposed information collection project entitled “Formative Research to Develop HIV Social Marketing Campaigns for Healthcare Providers.” CDC seeks a three-year approval to collect data from health care providers in order to develop timely, relevant, clear, and engaging materials that will support patient-provider communications related to HIV prevention.

DATES: Written comments must be received on or before May 20, 2016.

ADDRESSES: You may submit comments, identified by Docket No. CDC-2016-0028 by any of the following methods:

• Federal eRulemaking Portal: Regulation.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Formative Research to Develop HIV Social Marketing Campaigns for Healthcare Providers—New—National Center for HIV/AIDS, Viral Hepatitis, STD, and TB Prevention (NCHHSTP), Centers for Disease Control and Prevention (CDC).

Background and Brief Description

According to recent estimates, approximately 1.2 million people are living with human immunodeficiency virus (HIV) in the United States, and for the past several years, approximately 50,000 people have been diagnosed annually. It is well-established that certain populations are disproportionately affected by HIV, including men who have sex with men (MSM), African Americans, Hispanics/Latinos, and transgender communities.

In part, to address these health disparities, CDC first published guidelines for HIV testing in health care settings in 2003. CDC updated this guidance to reflect changes in the evidence base in 2006. As the prevention landscape has evolved, so too has CDC's guidance for health care providers. Most recently, CDC published guidelines for health care providers on pre-exposure prophylaxis (PrEP) and recommendations for HIV prevention with adults and adolescents with HIV. Despite clear and compelling guidance from CDC, past studies have shown that patient-provider communication about HIV testing and prevention is uncommon and conversations that do take place tend to be brief.

CDC has developed four social marketing campaigns to support patient-provider communication about HIV. These campaigns have made great strides in addressing health care providers' information needs, thereby building their capacity to discuss HIV prevention with their patients. At this juncture, particularly with the evolving HIV prevention landscape, more data are needed to deepen our understanding of providers' interpretation and understanding of existing and emergent HIV prevention science; how providers use guidance or evidence-based approaches in their practices generally as well with populations that have been largely overlooked (e.g., transgender individuals); and how to develop new or enrich existing provider materials to make them more informative, appealing, and usable.

The three-year study proposes a series of in-depth interviews with 600 healthcare providers (i.e., physicians, physician assistants, and nurses) identified by contractor staff and professional recruiting firms. Data will be collected through one-time, hour-long, individual, in-depth interviews accompanied by a computer-assisted personal interview (total of 1 hour and 15 minutes per person). We anticipate screening 1,200 individuals to obtain 600 individuals who will participate in a 1-hour, in-depth interview and complete a 15-minute computer-assisted personal interview (web-based) survey. All data collections will be conducted only one time. Respondents who will participate in these interviews will be selected purposively to inform the development of appropriate messaging and materials for healthcare providers. Topic areas addressed within the interviews may include HIV prevention, HIV treatment, and linkage and referral to services. Data will be securely stored on password-protected computers and in locked file cabinets.

The information gathered through this data collection will allow CDC to develop timely, relevant, clear, and engaging materials that continue to support patient-provider communications related to HIV prevention. Participation of respondents is voluntary, and there is no cost to respondents other than their time. The total estimated annualized burden hours are 950.

Estimated Annualized Burden Hours
Type of respondent | Form name | Number of respondents | Number of responses per respondent | Average burden per response (in hours) | Total burden hours
Health care providers | Screener | 1,200 | 1 | 10/60 | 200
| Web-based survey | 600 | 1 | 15/60 | 150
| Exploratory guide—Prevention with positives and retention in care | 50 | 1 | 1 | 50
| Exploratory guide—Transgender health | 50 | 1 | 1 | 50
| Exploratory guide—HIV prevention | 50 | 1 | 1 | 50
| Message testing guide | 150 | 1 | 1 | 150
| Concept testing guide | 150 | 1 | 1 | 150
| Materials testing guide | 150 | 1 | 1 | 150
Total |  |  |  |  | 950

Leroy A. Richardson,
Chief, Information Collection Review Office, Office of Scientific Integrity, Office of the Associate Director for Science, Office of the Director, Centers for Disease Control and Prevention.

[FR Doc. 2016-06248 Filed 3-18-16; 8:45 am]

BILLING CODE 4163-18-P